DEPARTMENT OF ENERGY

Western Area Power Administration

Colorado River Storage Project—Rate Order No. WAPA-132

AGENCY: Western Area Power Administration, DOE.

ACTION: Notice of order temporarily extending transmission and ancillary services rates.

SUMMARY: This action is to temporarily extend the existing Colorado River Storage Project (CRSP) transmission and ancillary services rates through September 30, 2010. The existing transmission and ancillary services rates will expire September 30, 2007.

FOR FURTHER INFORMATION CONTACT: Mr. Bradley S. Warren, CRSP Manager, CRSP Management Center, Western Area Power Administration, 150 East Social Hall Avenue, Suite 300, Salt Lake City, UT 84111-1580, (801) 524-6372, e-mail warren@wapa.gov, or Ms. Carol Loftin, Rates Manager, CRSP Management Center, Western Area Power Administration, 150 East Social Hall Avenue, Suite 300, Salt Lake City, UT 84111-1580, (801) 524-6380, e-mail loftinc@wapa.gov.

SUPPLEMENTARY INFORMATION: By Delegation Order No. 00-037.00, effective December 6, 2001, the Secretary of Energy delegated: (1) The authority to develop power and transmission rates to the Administrator of the Western Area Power Administration (Western); (2) the authority to confirm, approve, and place such rates into effect on an interim basis to the Deputy Secretary of Energy; and (3) the authority to confirm, approve, and place into effect on a final basis, to remand, or to disapprove such rates to the Federal Energy Regulatory Commission (Commission).

The existing rates, contained in Rate Order No. WAPA-99,¹ were approved for 5 years through September 30, 2007. Western is temporarily extending the existing CRSP transmission and ancillary services rates in accordance with 10 CFR part 903.23(b). The existing CRSP rate formula methodology collects annual revenue sufficient to recovery annual expenses (including interest) and capital requirements, thus ensuring repayment of the project within the cost recovery criteria set forth in DOE order RA 6120.2. The temporary extension will permit a concurrent public process and rate approval period for firm electric service, transmission service, and ancillary services.

¹ WAPA-99 was approved by the Commission on a final basis on November 14, 2003, in Docket No. EF02-5171-000 (105 FERC ¶ 62,093).

Western did not have a consultation and comment period and did not hold public information and comment forums, which in accordance with 10 CFR part 903.23(b) are not required. Following review of Western's proposal within DOE, I hereby approve Rate Order No. WAPA-132 which extends the existing CRSP transmission and ancillary services rates through September 30, 2010.

Dated: June 29, 2007.
Clay Sell,
Deputy Secretary.

Department of Energy; Deputy Secretary

Rate Order No. WAPA-132

In the Matter of: Western Area Power Administration Rate Extension for Colorado River Storage Project Transmission and Ancillary Services Rates; Order Confirming and Approving a Temporary Extension of the Colorado River Storage Project Transmission and Ancillary Services Rates

The transmission and ancillary services rates were established following section 302 of the Department of Energy (DOE) Organization Act (42 U.S.C. 7152). This Act transferred to and vested in the Secretary of Energy the power marketing functions of the Secretary of the Department of the Interior and the Bureau of Reclamation under the Reclamation Act of 1902 (ch. 1093, 32 Stat. 388), as amended and supplemented by subsequent laws, particularly section 9(c) of the Reclamation Project Act of 1939 (43 U.S.C. 485h(c)), and other Acts that specifically apply to the project system involved.

By Delegation Order No. 00-037.00, effective December 6, 2001, the Secretary of Energy delegated: (1) The authority to develop power and transmission rates to the Administrator of the Western Area Power Administration (Western); (2) the authority to confirm, approve, and place such rates into effect on an interim basis to the Deputy Secretary of Energy; and (3) the authority to confirm, approve, and place into effect on a final basis, to remand, or to disapprove such rates to the Federal Energy Regulatory Commission.

Background

The existing rates, contained in Rate Order No. WAPA-99, were approved for 5 years and are effective through September 30, 2007.

Discussion

CRSP firm power, transmission, and ancillary services rates were placed into effect in 2002,² with expiration in 2007. In 2005, CRSP firm power rates were found to be insufficient, so a new increased firm electric service rate was placed into effect on October 1, 2005, through September 30, 2010.³ The CRSP transmission and ancillary services rates remained the same, with expiration in 2007. Western is temporarily extending the CRSP transmission and ancillary services rates until 2010 pursuant to 10 CFR part 903.23(b). This will result in the CRSP firm electric, transmission, and ancillary services rates having the same expiration date, and will permit a concurrent public process and rate approval period for those services. The existing transmission and ancillary services rate formula methodologies collect annual revenues sufficient to recover annual expenses (including interest) and capital requirements, thus ensuring repayment of the project costs under the cost recovery criteria set forth in DOE order RA 6120.2. As permitted by 10 CFR part 903.23(b), Western did not have an advanced notice and comment period, and did not hold public information and comment forums on the temporary extension of CRSP transmission and ancillary services rates.

² Rate Order No. WAPA-99, 67 FR 60656 (Sept. 26, 2002). Approved by the Federal Energy Regulatory Commission (FERC) on November 14, 2003 (105 FERC ¶ 62, 093).

³ Rate Order No. WAPA-117, 70 FR 47823 (August 15, 2005). Approved by FERC on June 13 2006 (115 FERC ¶ 62,271).

Order

In view of the above and under the authority delegated to me, I hereby temporarily extend for a period effective from October 1, 2007, through September 30, 2010, the existing rate schedules SP-PTP6, SP-NW2, SP-NFT5, SP-SD2, SP-RS2, SP-EI2, SP-FR2, and SP-SSR2 for transmission and ancillary services.

Dated: June 29, 2007.
Clay Sell,
Deputy Secretary.

[FR Doc. E7-13418 Filed 7-10-07; 8:45 am]

BILLING CODE 6450-01-P